ENVIRONMENTAL PROTECTION AGENCY

[EPA-HQ-OPP-2007-0941; FRL-8152-7]

Carbaryl Reregistration Eligibility Decision

AGENCY: Environmental Protection Agency (EPA).

ACTION: Notice.

SUMMARY: This notice announces the availability of EPA's Reregistration Eligibility Decision (RED) for the pesticide carbaryl. The Agency's risk assessments and other related documents also are available in the carbaryl RED Docket. This RED completes the reregistration and tolerance reassessment process for carbaryl and amends an Interim Reregistration Eligibility Decision (IRED), which was made available for public comment on October 22, 2004 (see docket EPA-HQ-OPP-2003-0376). Carbaryl is an N-methyl carbamate insecticide that is used on a variety of ornamental and agricultural crops and in residential settings, for lawns, gardens, and flea control. EPA has reviewed carbaryl through the public participation process that the Agency uses to involve the public in developing pesticide reregistration and tolerance reassessment decisions. Through these programs, EPA is ensuring that all pesticides meet current health and safety standards.

FOR FURTHER INFORMATION CONTACT: Christina Scheltema, Special Review and Reregistration Division (7508P), Office of Pesticide Programs, Environmental Protection Agency, 1200 Pennsylvania Ave., NW., Washington, DC 20460-0001; telephone number: (703) 308-2201; fax number: (703) 308-8005; e-mail address: scheltema.christina@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0941. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

Under section 4 of the Federal Insecticide, Fungicide, and Rodenticide Act (FIFRA), EPA is reevaluating existing pesticides to ensure that they meet current scientific and regulatory standards. EPA has completed a RED for the pesticide carbaryl under section 4(g)(2)(A) of FIFRA. Carbaryl is an N-methyl carbamate insecticide that is used on a variety of ornamental and agricultural crops and in residential settings, for lawns, gardens, and flea control. EPA has determined that the database to support reregistration is substantially complete and that products containing carbaryl are eligible for reregistration, depending on their specific uses, provided the risks are mitigated either in the manner described in the RED and IRED or by another means that achieves equivalent risk reduction. Upon submission of any required product specific data under section 4(g)(2)(B) of FIFRA and any necessary changes to the registration and labeling (either to address concerns identified in the RED or as a result of product specific data), EPA will make a final reregistration decision under section 4(g)(2)(C) of FIFRA for products containing carbaryl.

EPA is applying the principles of public participation to all pesticides undergoing reregistration and tolerance reassessment. The Agency's Pesticide Tolerance Reassessment and Reregistration; Public Participation Process, published in the Federal Register on May 14, 2004, (69 FR 26819) (FRL-7357-9) explains that in conducting these programs, EPA is tailoring its public participation process to be commensurate with the level of risk, extent of use, complexity of issues, and degree of public concern associated with each pesticide. EPA worked extensively with stakeholders and the public to reach the regulatory decisions for both the carbaryl IRED and RED. The carbaryl IRED was developed through the full 6 phase public participation process, and the carbaryl RED was developed through additional stakeholder collaboration.

The reregistration program is being conducted under congressionally mandated time frames, and EPA recognizes the need both to make timely decisions and to involve the public. Because all issues related to this pesticide were resolved through consultations with stakeholders, the Agency is issuing the carbaryl RED without a comment period.

B. What is the Agency's Authority for Taking this Action?

Section 4(g)(2) of FIFRA, as amended, directs that, after submission of all data concerning a pesticide active ingredient, “the Administrator shall determine whether pesticides containing such active ingredient are eligible for reregistration,” before calling in product specific data on individual end-use products and either reregistering products or taking other “appropriate regulatory action.”

List of Subjects

Environmental protection, Carbaryl, Pesticides and pests.

Dated: October 3, 2007,
Steven Bradbury,
Director, Special Review and Reregistration Division, Office of Pesticide Programs.

[FR Doc. E7-20104 Filed 10-16-07; 8:45 am]

BILLING CODE 6560-50-S